DEPARTMENT OF LABOR

Occupational Safety and Health Administration

Advisory Committee on Construction Safety and Health; Notice of Open Meeting

AGENCY: Occupational Safety and Health Administration (OSHA), Labor.

ACTION: Notice of a meeting of the Advisory Committee on Construction Safety and Health (ACCSH).

SUMMARY: ACCSH will meet May 22-23, 2003, in Washington, DC. This meeting is open to the public.

Time and Date: ACCSH will meet from 9 a.m. to 5 p.m., Thursday, May 22, 2003, and 8:30 a.m. to Noon on Friday, May 23, 2003.

Place: ACCSH will meet at the U.S. Department of Labor, Room N-3437, 200 Constitution Avenue, NW., Washington, DC.

FOR FURTHER INFORMATION CONTACT: For general information about ACCSH and ACCSH meetings: Steve Cloutier, OSHA, Directorate of Construction, Room N-3468, U.S. Department of Labor, 200 Constitution Avenue, NW., Washington, DC 20210; telephone 202-693-2351. For information about submission of comments, requests to speak, and the need for accommodations for the meeting: Veneta Chatmon, OSHA, Office of Public Affairs, Room N-3647, U.S. Department of Labor, 200 Constitution Avenue, NW., Washington, DC 20210; telephone 292-693-1999.

Electronic copies of this Federal Register notice, as well as information about ACCSH workgroups and other relevant documents, are available at OSHA's Webpage on the Internet at http://www.osha.gov.

SUPPLEMENTARY INFORMATION: ACCSH will meet May 22-23, 2003, in Washington, DC. This meeting is open to the public. The agenda for this meeting includes:

• Remarks by the Assistant Secretary—OSHA, John L. Henshaw

• Proposed standard on Assigned Protection Factors (APF) for Respirators

• Directorate of Construction Report

• Standards Update

• Tower Erection

• Chromium

• Subpart V—Power Transmission and Distribution

• Silica

• Hearing Conservation in Construction

• Partnership and Alliance Update

• Multi-media Fatal Facts Presentation

• Workgroup Reports

• Public Comment (During this period, any member of the public is welcome to address ACCSH about construction-related safety and health issues. See information below to request time to speak at the meeting.)

All ACCSH meetings are open to the public. An official record of the meeting will be available for public inspection at the OSHA Docket Office, Room N-2625, at the address above, telephone (202)-693-2350. Individuals needing special accommodations should contact Ms. Chatmon no later than May 12, 2003, at the address above.

Interested parties may submit written data, views or comments, preferably with 20 copies, to Ms. Chatmon, at the address above. OSHA will provide submissions received prior to the meeting to ACCSH members and will include each submission in the record of the meeting. Attendees may also request to make an oral presentation by notifying Veneta Chatmon before the meeting at the address above. The request must state the amount of time desired, the interest represented by the presenter (e.g., the names of the business, trade association, government Agency), if any, and a brief outline of the presentation. The Chair of ACCSH may grant the request at his discretion and as time permits.

Authority: John L. Henshaw, Assistant Secretary of Labor for Occupational Safety and Health, directed the preparation of this notice under the authority granted by section 7 of the Occupational Safety and Health Act of 1970 (29 U.S.C. 656), section 107 of the Contract Work Hours and Safety Standards Act (Construction Safety Act) (40 U.S.C. 333), and Secretary of Labor's Order No. 5-2002 (67 FR 65008).

Signed at Washington, DC, this 30th day of April, 2003.
John L. Henshaw,
Assistant Secretary of Labor.

[FR Doc. 03-11130 Filed 5-5-03; 8:45 am]

BILLING CODE 4510-26-P